DEPARTMENT OF HOUSING AND URBAN DEVELOPMENT

[Docket No. FR-5415-FA-29]

Announcement of Funding Awards; Service Coordinators in Multifamily Housing Program, Fiscal Year (FY) 2010

AGENCY: Office of the Assistant Secretary for Housing—Federal Housing Commissioner, HUD.

ACTION: Announcement of funding awards.

SUMMARY: In accordance with section 102(a)(4)(C) of the Department of Housing and Urban Development Reform Act of 1989, this announcement notifies the public of funding decisions made by the Department in a competition for funding under the FY 2010 Notice of Funding Availability (NOFA) for the Service Coordinators in Multifamily Housing program. This announcement contains the names of the awardees and the amounts of the awards made available by HUD.

FOR FURTHER INFORMATION CONTACT: Ms. Catherine M. Brennan, Director, Office of Housing Assistance and Grant Administration, Office of Housing, 451 Seventh Street SW., Room 6138, Washington, DC 20410; telephone number 202-708-3000. (This is not a toll-free number). Hearing- and speech-impaired persons may access this number via TTY by calling the Federal Relay Service toll-free at 1-800-877-8339. For general information on this and other HUD programs, visit the HUD Web site at http://www.hud.gov.

SUPPLEMENTARY INFORMATION: The Service Coordinators in Multifamily Housing program is authorized by Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000). The Service Coordinators in Multifamily Housing program allows multifamily housing owners to assist elderly individuals and nonelderly people with disabilities living in HUD-assisted housing and in the surrounding area to obtain needed supportive services from the community, to enable them to continue living as independently as possible in their homes.

The FY 2010 awards announced in this notice identify applicants that were selected for funding based on a competition announced by a NOFA published on www.Grants.gov on January 25, 2011. Applications were reviewed and selected for funding on the basis of selection criteria contained in that NOFA. The funding awarded to the recipients under this NOFA, however, was appropriated by the Full-Year Continuing Appropriations Act, 2011 (Pub. L. 112-10, approved April 15, 2011), and not the Department of Housing and Urban Development Appropriations Act, 2010 (Pub. L. 111-117, approved December 16, 2009) (FY 2010 Act) as stated in the NOFA. The funding appropriated under the FY 2010 Act was used by HUD to provide one-year renewal funding to previously funded Service Coordinator in Multifamily Housing and Congregate Housing Services Program grantees whose grants would have expired in FY 2010 and 2011.

The Catalog of Federal Domestic Assistance number for this program is 14.191.

A total of $32,733,268 was awarded to 162 owners, serving 173 projects with 19,195 units nationwide. In accordance with section 102(a)(4)(C) of the Department of Housing and Urban Development Reform Act of 1989 (103 Stat. 1987. 42 U.S.C. 3545), the Department is publishing the grantees and amounts of the awards in Appendix A of this document.

Dated: August 22, 2012.
Carol A. Galante,
Acting Assistant Secretary for Housing—Federal Housing Commissioner.

State | Recipient name | Project name | Address | City | Number of units | Grant amount
AR | Jonesboro Ecumenical Center, Inc | Jonesboro Ecumenical Center | 2510 Ecumenical Dr | Jonesboro | 70 | $147,104
AZ | Casa Sierra Vista, Inc. | Casa Sierra Vista | 600-A E 25th St | Yuma | 30 | 190,867
CA | St. John Village, LP | St. John Manor | 900 E 4thSt | Bakersfield | 79 | 159,814
CA | St. John's Manor, LP | St. John's Manor | 2031 Orange Ave | Costa Mesa | 36 | 101,001
CA | Our Lady of Guadalupe | Guadalupe Manor | 17103 Magnolia St | Fountain Valley | 71 | 132,533
CA | Gardena Non-Profit Senior Housing | Gardena Sr Hsg | 17150 S Park Ln | Gardena | 74 | 183,439
CA | Access Irvine, Inc. | Access Irvine, Inc. | 3773 University Dr | Irvine | 40 | 130,752
CA | Lawndale Senior Housing, Inc | Lawndale Senior Housing | 4702 W 153rd Pl | Lawndale | 56 | 130,417
CA | Long Beach Brethren Manor, Inc | Long Beach Brethren Manor | 3333 Pacific Pl | Long Beach | 296 | 70,493
CA | CLDH Affordable L.P | Casa De Las Hermanitas | 2801 E 2nd St | Los Angeles | 88 | 279,605
CA | Van Nuys Preservation, L.P | Van Nuys Apts | 210 W 7th St | Los Angeles | 299 | 537,463
CA | Golden Age Garden Housing Partners, LP | Golden Age Gardens Apts | 740 S 36th St | San Diego | 76 | 263,846
CA | Jones Senior Homes Inc | Jones Senior Homes | 1727 Fillmore St | San Francisco | 51 | 280,635
CO | Fletcher Garden, LLLP | Fletcher Gardens | 1401 Emporia St | Aurora | 94 | 104,890
CO | Steele Denver Gardens LLC | Denver Gardens Apts | 6801 E Mississippi St | Denver | 100 | 196,745
CO | Denver Metro Village, Inc | Denver Metro Village | 1523 Quitman St | Denver | 192 | 183,145
CO | Francis Heights, Inc. | Francis Heights | 2626 Osceola | Denver | 382 | 226,852
CO | Oakbrook I Manor Housing Partners, LLLP | Oakbrook Manor I | 3200 Stanford Rd | Fort Collins | 107 | 301,222
CO | Housing Authority of the City of Grand Junction | Walnut Park Apts | 2236 N 17th St | Grand Junction | 78 | 149,989
CO | Birchwood EHP, LP | Birchwood Manor | 2830 27th St Ln | Greeley | 162 | 338,645
CT | Robbin Nicoletti | Woodview Apartments | 1270 N High St | East Haven | 120 | 178,245
CT | Church Housing for Fairfield, Inc | Parish Court | 175 Wardeter | Fairfield | 100 | 222,696
CT | Naubuc Green Inc | Naubuc Green | 193 Welles St | Glastonbury | 111 | 230,155
CT | Sigourney Square Associates, LP | Sigourney Square | 280-6 Sigourney St | Hartford | 42 | 140,813
CT | New Haven Associates Limited Partnership | Berger Apartments | 135 Derby Ave | New Haven | 144 | 277,750
CT | Hamilton Park Associations | Hamilton Park | 281 Hamilton Ave | Norwich | 120 | 107,878
CT | Florence Mill Associates | Florence Mill Apartments | 121 West Main Street | Rockville | 113 | 230,155
CT | Josephine Towers Limited Partnership | Josephine Towers | 24 Union St | Waterbury | 125 | 182,669
CT | BC Countryside I LLC | Countryside Apts/Lakeside | 12 Wolf Hill Rd | Wolcott | 55 | 234,702
FL | Suncoast Christian Housing, Inc | Burlington Tower | 1000 Burlington Ave N | Saint Petersburg | 116 | 198,970
FL | J.H. Floyd Sunshine Village, Inc | J. H. Floyd Sunshine Village | 1777 18th ST | Sarasota | 59 | 113,638
FL | JCT II LLC | Jewish Center Towers | 3001 W De Leon St | Tampa | 199 | 144,295
GA | Wheat Street Charitable Foundation, Inc | Wheat Street Towers | 375 Auburn Ave | Atlanta | 210 | 274,893
GA | Vineville Towers Associates Limited Partnership | Clisby Towers | 2087 Vineville Ave | Macon | 52 | 80,687
GA | Dempsey Apartments | Dempsey Apartments | 523 Cherry St | Macon | 194 | 170,326
GA | St. Paul Village, Inc. | Saint Paul Village | 1355-A Forsyth St | Macon | 48 | 101,016
GA | Ashton Savannah LP | Savannah Summit | 135 Hampstead Avenue | Savannah | 138 | 186,225
GA | Oglethorpe Square Apartments, a limited partnership | The Woods of Savannah | 7364-C Hodgson Memorial Dr | Savannah | 94 | 192,157
GU | Guam Housing and Urban Renewal Authority | Guam Elderly Hsg | 146 Pale San Vitores Rd | Tumon | 50 | 197,700
IA | Spruce Hills Village, LLC | Spruce Hills | 2380 Tech Dr | Bettendorf | 63 | 79,532
IA | St Mary's Apartments of Dubuque, LLC | St. Mary's | 2955 Kaufmann Ave | Dubuque | 79 | 92,250
IA | Meadows Apartments of Nevada, LLC | The Meadows | 402 5th St | Nevada | 49 | 67,026
IA | Liberty Manor Apartments of Waterloo, LLC | Liberty Manor | 1119 Kent Cir | Waterloo | 57 | 69,826
IL | Assisi Homes Constitution House, Inc | Constitution House | 401 N Constitution Dr | Aurora | 232 | 233,174
IL | Carbondale II LP | Carbondale Towers | 800-820 W Mill St | Carbondale | 231 | 232,915
IL | Assisi Homes Colony Park, Inc | Colony Park Apartments | 550 E Thornhill Dr | Carol Stream | 284 | 234,174
IL | Round Barn Manor Preservation, L.P | Round Barn Manor | 2000 W John St | Champaign | 156 | 368,300
IL | Englewood Eden Green Ltd | Antioch Haven Homes | 420 W 63rd St | Chicago | 195 | 263,033
IL | Paul G. Stewart Apartments Associates Phase IV | Paul G. Stewart Apts (Phase IV) | 400 East 41st Street | Chicago | 187 | 443,977
IL | Kenwin Venture LLLP | Pines of Edgewater | 5439 N Kenmore | Chicago | 279 | 302,835
IL | West Point Plaza Venture LLLP | West Point Plaza | 300 S. Damen | Chicago | 200 | 580,690
IL | Riverwoods Preservation, L.P | River Woods | 300 E River St | Kankakee | 125 | 248,523
IL | Southern Illinois VOA Elderly Housing, Inc | Cedars of Lebanon | 600 S Horner St | Lebanon | 120 | 219,230
IL | Langman Apartments Associates | Langman Apts. | 2301 E 1st St | Milan | 100 | 229,887
IL | TM Wallick Residential Properties I Limited Partnership | T M Wallick Residence | 2401 North Gail Avenue | Peoria | 476 | 469,291
IL | Watch Hill Tower Associates | Watch Hill Tower | 3705 9th St | Rock Island | 140 | 232,807
IL | Skyrise LLC | Skyrise Apts | 837 N Main St | Rockford | 170 | 375,056
IL | Illini Tower Associates | Illini Towers | 940 Crosstown Ave | Silvis | 100 | 231,209
IL | Council for Jewish Elderly | Village Center | 5140 Galtiz St. | Skokie | 151 | 214,566
IL | University Park Apartments, L.P | Thornwood House | 1 Thornwood Mall | University Park | 183 | 460,561
IN | Apartment Living, Inc. | Apartment Living | 308 W 19th St | Anderson | 20 | 103,810
IN | Cambridge Square of Anderson, a limited partnership | Cambridge Square Anderson | 1430 E 60th St | Anderson | 150 | 236,961
IN | Glick Wesley Park Housing, LLC | Wesley Park Apartments | 1304 Wesley Rd | Auburn | 72 | 234,278
IN | Cambridge Square of Bedford, a limited partnership | Cambridge Square Bedford | 1941 Plaza Dr | Bedford | 135 | 224,520
IN | Cambridge Square of Beech Grove, a limited partnership | Cambridge Square Beech Grove | 335 Churchman Place | Beech Grove | 126 | 240,140
IN | Cambridge Square of Bloomington, a limited partnership | Cambridge Square Bloomington | 307 N Pete Ellis Dr | Bloomington | 153 | 224,571
IN | Carriage House of Evansville, a limited partnership | Carriage House Evansville I | 5300 Carriage Dr | Evansville | 207 | 230,957
IN | Fairington Apartments of Fort Wayne, a limited partnership | Fairington Apartments Fort Wayne | 4931 Fairington Dr | Fort Wayne | 201 | 234,636
IN | Skybird Manor LP | Skybird Manor | 302 E 10th St | Greensburg | 60 | 110,310
IN | Cambridge Square North Associates II, a limited partnership | Cambridge Square North II | 7110 Township Line Road | Indianapolis | 200 | 241,849
IN | Jamestown Square North, a limited partnership | Carriage House Glendale | 2516 Tacoma Circle | Indianapolis | 204 | 241,358
IN | Behavior Corp Properties, LLC | Group Homes | 6855 Township Line Rd | Indianapolis | 44 | 108,310
IN | Fairington Apartments of Lafayette, a limited partnership | Fairington Apartments Lafayette | 225 Fairington Ct | Lafayette | 150 | 225,968
IN | Cambridge Square of Laporte, a limited partnership | Cambridge Square Laporte | 1111 Longwood Dr | Laporte | 134 | 235,830
IN | Cambridge Square of Marion, a limited partnership | Cambridge Square Marion | 1525 W Timberview Dr | Marion | 124 | 231,720
IN | Housing Authority of the City of Marion, IN | Hilltop Towers | 520 W Nelson St | Marion | 98 | 182,777
IN | Cambridge Square of Muncie, a limited partnership | Cambridge Square Muncie | 1601 E Mcgalliard Rd | Muncie | 124 | 238,888
IN | Cambridge Square of Richmond, a limited partnership | Cambridge Square Richmond | 3800 South A Street | Richmond | 150 | 229,815
IN | Rushville Commons LP | Rushville Commons | 215 Aspen Dr | Rushville | 48 | 110,670
IN | Jamestown Apartments of Seymour, a limited partnership | Jamestown Apartments Seymour | 745 Miller Ln | Seymour | 150 | 223,781
IN | Fairington Apartments of South Bend, a limited partnership | Fairington Apartments South Bend | 1220 Fairington Circle | South Bend | 201 | 240,240
IN | Jamestown Square of Vincennes, a limited partnership | Jamestown Square Vincennes | 360 Felt King Rd | Vincennes | 120 | 224,547
KS | Brookridge EDF Housing Investors, LP | Brookridge Plaza | 1259 N Buckner St | Derby | 46 | 53,178
KS | COF Training Services, Inc., Ottawa Project | COF Training Services, Inc | 726 W 13th St | Ottawa | 12 | 149,964
KY | B. C. Apartment Associates, Limited | Brooksville Court | 213 Elizabeth St | Brooksville | 48 | 103,928
KY | CHS, Ltd | St. Aloysius | 410 W 8th St | Covington | 48 | 106,268
KY | CAC, Ltd (Stern Hendy Properties Inc.) | The Colony | 3800 Locke St | Covington | 137 | 189,432
KY | Blairwood Apartments of Louisville, a limited partnership | Blairwood Apts | 9202 Linn Station Rd | Louisville | 150 | 238,412
KY | Fairington Apartments of Louisville, a limited partnership | Fairington of Louisville | 5900 Fairington Dr | Louisville | 150 | 238,413
KY | Jefferson County VOA Living Center, Inc | Woodgreen Apts | 3751 Woodgreen Court | Louisville | 21 | 124,842
KY | High Point, Ltd | High Point | 110 Hay Street | Ludlow | 44 | 106,264
MA | Brown Street Associates I and II | GARDNER TERRACE | 46 Pine St | Attleboro | 144 | 212,003
MA | City Square Elderly Housing, Inc | City Square Elderly Hsg | 42 Park St | Charlestown | 120 | 219,094
MA | Collins Non-Profit Apartments, Inc | Collins Non Profit | 150 Captains Row | Chelsea | 100 | 219,074
MA | Mental Health Programs, Inc.—IV | MHPI IV | 3 Boylston Pl | Jamaica Plain | 32 | 259,511
MA | Olympia Square Associates | Olympia Square | 429 Washington St | Lynn | 44 | 213,586
MA | Community Alternative Residential Environments, Inc | Walnut Street Center | 27 Bonair St | Somerville | 30 | 162,220
MA | Southampton Housing for the Elderly, Inc | Southampton | 128 College Hwy | Southampton | 40 | 235,609
MA | Taunton II Associates | Mill Pond Apts | 30 Washington St | Taunton | 49 | 124,214
MD | Bon Secours Housing, Inc | Bon Secours Hollins Terrace | 1800 Hollins Street | Baltimore | 84 | 228,116
MD | Greater New Hope Baptist Church Towers, Inc | Greater New Hope Towers | 2725 Walbrook Ave | Baltimore | 80 | 160,590
MD | N.M. Carroll Manor, Inc | N. M. Carroll Manor | 701 N Arlington Ave | Baltimore | 100 | 235,478
MD | Hopkins Village Preservation LP | Hopkins Village | 3 Brett Ct | Essex | 165 | 328,052
MD | Mrs. Philippines Home for Senior Citizens | Mrs. Philippines Home for Senior Citizens | 6482 Bock Rd | Oxon Hill | 74 | 77,388
MI | Centerline Park Towers/MHT Limited Dividend Housing Association | Centerline Park Towers | 8033 E Ten Mile Rd | Center Line | 300 | 428,524
MI | Dearborn Heights CSI Nonprofit Housing Corporation | Dearborn Heights Cooperative Apts | 16600 W Outer Dr | Dearborn Heights | 201 | 460,389
MI | GDC—DS Limited Dividend Housing Association, LLC | Devon Square | 1225 Orchard | Ferndale | 60 | 173,204
MI | Flat Rock Non-Profit Housing Corp | Flat Rock Non-Profit Housing | 28744 Telegraph Rd | Flat Rock | 96 | 232,045
MI | Kearsley Manor Apartments, dba Flint Retirement Homes | Kearsley Manor | 814 E Kearsley Manor | Flint | 110 | 207,351
MI | Capitol Grange Senior Citizen Housing Corporation | Grange Acres I | 6101 Marsh Rd | Haslett | 81 | 383,797
MI | Hazel Park Non-Profit Housing Corporation | Hazel Park Non Profit | 701 E Woodward Hgts Blvd | Hazel Park | 71 | 232,020
MI | LaBelle Towers | LaBelle Towers | 33 Labelle | Highland Park | 214 | 502,418
MI | Kalamazoo Non Profit Apartments Inc | Washington Square | 710 Collins St | Kalamazoo | 238 | 455,811
MI | Madison Heights Non-Profit Housing Corp | Madison Heights Cooperative Apartments | 500 E Irving | Madison Heights | 151 | 355,098
MI | Marquette Snowberry Limited Dividend Housing Association Lim | Snowberry Heights | 222 S Fifth St | Marquette | 191 | 400,199
MI | Michigan Non Profit Housing Corporation | Walled Lake Villas | 1035 Walled Lake Villa Dr. | Walled Lake | 260 | 110,430
MI | Elderly Housing Corporation of Westland | Thomas F. Taylor Towers | 36500 Marquette St | Westland | 266 | 428,092
MI | Wyandotte (CSI) Non-Profit Corporation | Wyandotte Cooperative Apartments | 2455 Biddle Ave | Wyandotte | 132 | 361,886
MN | Ebenezer Towers | Ebenezer Towers | 2523 Portland Ave S | Minneapolis | 192 | 124,990
MN | St. Paul's Home, Inc | St. Paul's Home | 2735 15th Ave S | Minneapolis | 53 | 82,177
MN | Montevideo Methodist Home, Inc | Brookside Manor/Montevideo Meth Home | 804 Benson Rd | Montevideo | 59 | 26,406
MO | National Church Residences of Friendship Manor, MO | Friendship Manor | 917 NW Summit Dr | Blue Springs | 60 | 107,129
MO | Willow Creek Senior, LP | Willow Creek I and II | Route 1 | Eldon | 64 | 165,794
MO | Village East Towers Limited Partnership | Village East Towers | 1218 Village Dr | Saint Joseph | 108 | 208,818
MO | Park Place Preservation, LP | Park Place | 4399-Forest Park Blvd | Saint Louis | 242 | 415,745
MO | Olsen West Senior, LP | Olsen West Apartments | 883 Olsen Road | Sedalia | 52 | 144,263
MS | NHP Housing Associates, LLC | North Hills Place Apartments | 200 Cahal St #400 | Hattiesburg | 80 | 140,359
MS | United Church Residences of Horn Lake, Mississippi, Inc | Austin Run | 7100 Mallard Creek Dr | Horn Lake | 40 | 106,514
MS | United Church Residences of Oxford Mississippi, Inc | Canterbury Crest | 1531 Tyler Cv | Oxford | 24 | 63,726
MS | United Church Residences of Jackson, Mississippi, Inc | Indian Run | 2010 Small Dr | Pearl | 40 | 95,389
NC | Glover Plaza, Inc. | Glover Plaza | 1402 Little John Cir | Wilmington | 75 | 236,832
NC | Winston Summit Apartments | Winston Summit | 137 Columbine Dr | Winston-Salem | 100 | 207,947
ND | Columbia Square East GP | Columbia Square East | 2505 13th Ave S | Grand Forks | 50 | 176,094
NH | Tamworth Senior Housing Associates LP | Remick Acres | 145 Tamworth Rd | Tamworth | 24 | 51,018
NJ | A.C.T. Affordable Housing, Inc | Atlantic City Townhouses | 1330 Mediterranean Ave | Atlantic City | 174 | 209,281
NJ | Community Haven Senior Citizens Housing, LTD | COMMUNITY HAVEN | 35 So. Virginia Avenue | Atlantic City | 246 | 176,271
NM | New Mexico-American Housing Foundation, Inc | La Resolana Apartments | 1025 Chelwood Park Blvd NE | Albuquerque | 167 | 192,078
NM | Apple Ridge Apartments LP | Apple Ridge Apartments | 1600 Cliffside Dr | Farmington | 80 | 223,227
NM | Montana Meadows Apartments LP | Montana Meadows Apartments | 201 Montana Ave | Las Cruces | 80 | 223,227
NM | Socorro Village LLC | Socorro Village Apartments | 444 Eaton Ave | Socorro | 40 | 167,875
NM | Casa del Rio LLC | Casa Del Rio Apartments | 165 N Silver St | Truth or Consequence | 36 | 178,305
NY | Stryker Housing Development Fund Company, Inc | Stryker Homes Apartments | 2 Loop Rd | Auburn | 103 | 198,539
NY | SEBCO HDFC Inc. | SEBCO Houses for the Elderly | 980 Aldus St | Bronx | 92 | 150,064
NY | Friendset Housing Company Limited Partnership | Friendset Apartments | 2911 W 36th St | Brooklyn | 259 | 246,896
NY | Shore Hill Housing Associates, LP | Shore Hill Apartments | 9000 Shore Rd | Brooklyn | 559 | 390,000
NY | Covenant Manor Housing Development Fund Co., Inc | Covenant Manor | 23 W Third St | Jamestown | 88 | 106,583
NY | Pitcher Hill Housing Development Fund Company, Inc | Pitcher Hill Apartments | 114 ELBOW Rd | North Syracuse | 101 | 187,770
NY | Grace View Manor Housing Development Fund Corporation | Grace View Manor | 80 Calvary Dr | Norwich | 40 | 109,521
NY | St. Peter's Italian Church Housing Development Fund Co. Inc | Villa Scalabrini Apts | 825 E Willow St | Syracuse | 121 | 190,007
NY | SNI Development Company Limited Partnership | O'Neil Apartments | 2121 6th Ave | Troy | 115 | 240,225
NY | Hollows Associates LP | The Hollows | 1 Kubasek Trinty Manor Dr | Yonkers | 130 | 236,161
OH | Callis Tower, LLC | Callis Tower | 730 Callis Drive | Akron | 277 | 268,051
OH | E.T.L. Housing Corporation | ETL Tower | 1500 Marion Avenue | Akron | 101 | 160,587
OH | CRS, Ltd (Stern Hendy Properties Inc.) | Clifton Place | 900 Rue De La Paix | Cincinnati | 183 | 375,387
OH | Haddon Hall, Ltd (AJK Managment Inc.) | Haddon Hall | 3418 Reading Road | Cincinnati | 114 | 189,771
OH | Fenway Manor Limited | Fenway Manor | 1986 Stokes Blvd | Cleveland | 143 | 309,389
OH | Eastland Manor, Inc. | Eastland Manor | 4225 Macsway Ave | Columbus | 201 | 35,319
OH | Dayton Associates II, Limited Partnership | Almond Village Apartments | 4701 Casaba Court | Dayton | 60 | 109,094
OH | First 202 Housing Corp. No. 2 | C.J. McLin Sr., Apts. | 1316 McArthur Ave | Dayton | 46 | 109,305
OH | Covenant Manor, Inc | Covenant Manor | 4951 Covenant House Dr | Dayton | 50 | 109,319
OH | Sunnyview Square, Ltd | Sunnyview Square | 69 Rock Creek Dr | Delaware | 30 | 68,749
OH | New Seton Square Dover II LP | Seton Square Dover I & II | 501 S. James St. and 139 Filmore St | Dover | 90 | 192,703
OH | Sturbridge Green Ltd | Sturbridge Green | 3750 Sturbridge Ct. | Hilliard | 50 | 113,500
OH | Village Park Ltd | Village Park | 6747 Brandt Pike | Huber Heights | 41 | 33,915
OH | L.M. Associates, Ltd | Sherman-Thompson Towers | 275 N Third St | Ironton | 150 | 302,253
OH | National Church Residences of Johnstown, Ohio | Chimes Terrace, NCR of Johnstown, OH | 65 S Williams St | Johnstown | 60 | 105,616
OH | New Seton Kenton LP | Seton Kenton | 699 Morningside Dr | Kenton | 50 | 109,452
OH | New Seton Lancaster LP | Seton Lancaster, Inc | 232 Gay St | Lancaster | 33 | 106,489
OH | Collins Road Properties, Ltd | Windsor Place | 141 Graceland Dr | Lancaster | 82 | 184,944
OH | New Seton Square Marion LP | Seton Square Marion, Inc | 255 Richland Rd | Marion | 102 | 197,953
OH | Ohio Conference of AME Housing, Inc | Helen Evans Apartments | 821 Milcrest Dr | Marysville | 45 | 111,294
OH | Alpha-Massillon Housing Corporation | Alpha Massillon | 400 23rd St NE | Massillon | 50 | 173,780
OH | Mechanicsburg Village, Ltd | Mechanicsburg Village | 41 Walnut St. | Mechanicsburg | 50 | 109,545
OH | Miamisburg Manor, Ltd | Miamisburg Manor | 15 W Ferry St | Miamisburg | 50 | 109,320
OH | Westhaven, Inc | Westhaven | 220 Sprigg St | North Baltimore | 45 | 131,191
OH | Owensville Commons, Ltd | Owensville Commons | 263 West Main Street | Owensville | 84 | 82,851
OH | Piqua Manor, Ltd | Roosevelt Manor | 500 S. Roosevelt Ave | Piqua | 30 | 66,566
OH | Plain City Senior Center, Inc | Pleasant Valley Colony | 390 Allgyer Dr | Plain City | 40 | 113,549
OH | Windham Housing Corporation | Rushin Meadows | 778 Northgate Dr | Ravenna | 50 | 209,884
OH | New Alpha Housing Limited Partnership | Alpha Massillon | 525 E Woodruff | Toledo | 165 | 209,804
OH | Staunton Commons II, Ltd | Staunton Commons II | 500 Staunton Commons Dr | Troy | 29 | 50,872
OH | Terrace Ridge | Terrace Ridge | 1312 McKaig Ave | Troy | 167 | 197,841
OH | Rotary Manor, Inc | Rotary Manor | 125 E. Ward St | Urbana | 40 | 109,545
OH | Vandalia Associates, LLC | Vandalia Village Apartments | 860 N. Dixie Dr | Vandalia | 76 | 151,600
OH | New Seton Square Wellston Limited Partnership | Seton Square Wellston, Inc | 570 W First St | Wellston | 48 | 132,421
OH | Moraine Village Ltd (Wallick Properties Midwest LLC) | Princeton Village | 68 Bevonne Dr | West Milton | 40 | 109,320
OH | First 202 Housing Corporation-Xenia Site | Walter G. Sellers Senior Apts | 270 Mt. Vernon Dr | Xenia | 66 | 108,105
OH | International Towers Apartments, Ltd | International Towers | 25 Market St | Youngstown | 173 | 400,469
OK | FHM Associates, Inc | Fair Haven Manor Apts | 500 Dayton Street | Muskogee | 191 | 248,223
OK | Shadybrook Tulsa Holdings, LLC | Shadybrook Senior Apts | 4203 S 109th East Avenue | Tulsa | 120 | 52,814
SD | Steele Towers Apartments LLC | Steele Tower Apts | 17 First St SW | Watertown | 50 | 95,034
TN | National Church Residences of Bolivar, TN | Pecan Grove | 520 Pecan Dr | Bolivar | 40 | 23,186
TN | United Church Residences of Covington, TN Inc | Fox Hollow Community | 100 Fox Hollow Cir | Covington | 40 | 110,685
TN | Canaan Baptist Housing Corporation | Golden Age Retirement Village | 1109 Beaman Lake Rd | Knoxville | 101 | 187,718
TN | Summit II, LP | Summit Towers | 201 Locust St | Knoxville | 277 | 206,630
TN | Beersheba II, LP | Beersheba Heights Tower | 420 E Main St | Mcminnville | 100 | 183,732
TN | Madison, John Exum Tower | John Madison Exum Towers I | 3155 Sharpe Ave | Memphis | 150 | 170,593
TN | United Housing Partners Morristown LP | LaurelWood Apartments | 513 S Hill St | Morristown | 65 | 59,667
TN | Wedgewood Apartments LP | Wedgewood Towers Apts | 1195 Wedgewood Ave | Nashville | 121 | 293,944
TN | Norris Garden Apartments, LTD | Norris Gardens | 11 Chestnut Dr | Norris | 51 | 103,151
TN | National Church Residences of Paris, TN | Chateau Maurice | 1101 Volunteer Dr | Paris | 40 | 29,342
TN | Holston Homes for Elderly | Greenbriar Village | 234 Petersburg Rd | Rogersville | 41 | 114,265
TX | Independence Hall Mutual Housing Association | Independence Hall | 6 Burress St | Houston | 292 | 269,182
TX | Houston Housing Authority | Telephone Road | 6000 Telephone Rd | Houston | 200 | 210,839
VA | Piedmont Housing Alliance | Scottsville School Apartments | 1215 East Market St. Ste. B | Charlottesville |  | 72,449
VA | Cambridge Square of Chesapeake, a Limited Partnership | Cambridge Square Apartments | 704 Gainsborough Ct | Chesapeake | 150 | 231,875
VA | Phoenix Village Associates | Phoenix Village | 1 Great Oak Circle | Newport News | 17 | 226,245
Va | Gosnold Apartments, LLC | Gosnold Apartments | 2425 Gosnold Avenue | Norfolk |  | 212,004
VA | Fairington Apartments of Roanoke, a limited partnership | Fairington of Roanoke | 4922 Grandin Rd SW | Roanoke | 100 | 229,159
VT | Mountaha, LLC | Heritage Lane | 80 S Main St | Saint Albans | 28 | 37,009
WA | Housing Authority, City of Renton | Golden Pines | 2901 NE 10TH | Renton | 53 | 85,682
WA | Meridian Avenue North LLC | Meridian Manor | 10345 Meridian Ave N | Seattle | 109 | 222,040
WA | Fourth and Bell, LLC | Security House | 2225 4th Ave | Seattle | 107 | 206,437
WA | Retail Clerks Local 1001 Housing Development Association | Sunset House Apts | 2519 1st Ave | Seattle | 82 | 205,777
WA | King County Housing Authority | Westminster Manor | 14701 Dayton Ave N | Shoreline | 60 | 234,859
WA | Spokane Housing Authority | Hifumi En Apts | 926 E 8th Ave | Spokane | 41 | 159,342
WI | Outagamie County Housing Authority | Randal Court | 218 E. Randall St | Appleton | 118 | 270,992
WI | WHPC-Beaver Dam LLC | Campbell Court Apt. | 148 Judson St | Beaver dam | 57 | 118,360
WI | WHPC-Edgewater LLC | The Edgewater | 310 Mound St | Berlin | 42 | 150,922
WI | WHPC-Hampton Regency, LLC | Hampton Regency | 12999 W Hampton Ave | Butler | 120 | 164,941
WI | Future Wisconsin Romeis LLC | Romeis Millstream II | 509 High Street | Chippewa Falls | 61 | 209,070
WI | WHPC-DWR LLC | Lakeland Apartments | 1090 Birchwood St | Delavan | 82 | 169,274
WI | Riverview Apartments, LLC | Riverview Apts | 101 Western Ave | Fond Du Lac | 101 | 227,962
WI | WHPC-Rockwell Court LLC | Rockwell Court | 52 Spry St | Fort Atkinson | 64 | 106,230
WI | Assisi Homes-Saxony, Inc | Saxony Manor | 1852 22nd Ave | Kenosha | 226 | 245,732
WI | WHPC-MMM, LLC | Segoe Terrace | 602 Sawyer Terrace | Madison | 151 | 350,312
WI | Wisconsin Housing Preservation Corp | Fairview/Sparta Arms | 106 N L ST | Sparta | 58 | 146,510
WI | WHPC-Waushara Villages, LLC | Waushara Village | 245 E Mount Morris Ave | Wautoma | 34 | 152,909
WI | Crawford County Housing Authority | Winneshiek/Hillview | W 170 Hwy N | Wauzeka | 22 | 114,906
WI | Westby Housing Associates, Inc | Westby Housing | 211 Milwaukee St | Westby | 170 | 281,227

[FR Doc. 2012-21599 Filed 8-30-12; 8:45 am]

BILLING CODE 4210-67-P